DEPARTMENT OF THE INTERIOR

Bureau of Land Management

[OR-110-0777-30-24- 1A; HAG0-0303]

Notice of Intent to Prepare a Cascade-Siskiyou National Monument Management Plan/Environmental Impact Statement and Initiation of Public Scoping

AGENCY: Bureau of Land Management, Interior.

SUMMARY: Pursuant to the Federal Land Policy and Management Act and the National Environmental Policy Act, the Bureau of Land Management, Medford District, Ashland Resource Area will be preparing a Management Plan and Environmental Impact Statement (EIS) for the Cascade-Siskiyou National Monument located in Jackson County, Oregon. The Cascade-Siskiyou National Monument was established by William J. Clinton, President of the United States of America, on June 9, 2000. As a result of the national monument designation on federal land previously identified as the Cascade Siskiyou Ecological Emphasis Area, a supplemental draft environmental impact statement (SDEIS) to the Cascade Siskiyou Ecological Emphasis Area Draft Management Plan/Environmental Impact Statement (USDI/BLM March, 2000) will be prepared. Upon completion of the SDEIS and a 90 day public review period, a Cascade-Siskiyou National Monument Management Plan/Final Environmental Impact Statement will be prepared. The planning process for the Cascade-Siskiyou National Monument will follow the Bureau of Land Management (BLM) planning process found in 43 Code of Federal Regulations 1610. This notice amends the Notice of Intent [OR-110-0777-30-24-1A;-HAG99-0298] to Prepare a Cascade-Siskiyou Ecological Emphasis Area Plan/Environmental Impact Statement published in the Federal Register (Vol. 64, No. 166) on Friday, August 27, 1999.

DATES: Written scoping comments for the supplemental draft environmental impact statement will be accepted through August 31, 2000. Comments previously received on the Cascade Siskiyou Ecological Emphasis Area Draft Management Plan/Environmental Impact Statement will be used in preparing the supplemental draft environmental impact statement. No public scoping meetings are scheduled.

The tentative project schedule is as follows:

1. Analyze comments, identify and address additional issues and develop appropriate alternative(s), if necessary.

2. File Supplemental Draft Environmental Impact Statement—December 2000 (90 day public review period).

3. File Final Environmental Impact Statement—July 2001 (30 day public review period).

4. Record of Decision—October 2001.

SUPPLEMENTARY INFORMATION: The Cascade-Siskiyou National Monument consists of the federal and managed by the Bureau of Land Management previously identified as the analysis area in the Cascade Siskiyou Ecological Emphasis Area (CSEEA) Draft Management Plan/Environmental Impact Statement (USDI/BLM March, 2000), with the addition of appropriately 290 acres and the exclusion of all lands in California. The National Monument is an ecological wonder, with biological diversity unmatched in the Cascade Range. This rich enclave of natural resources is a biological crossroads—the interface of the Cascade, Klamath, and Siskiyou ecoregions, in an area of unique geology, biology, climate, and topography. The Monument is home to a spectacular variety of rare and beautiful species of plants and animals, whose survival in this region depends upon its continued ecological integrity.

The Cascade-Siskiyou National Monument encompasses the following special designated areas on land managed by the Bureau of Land Management in Oregon.

—Soda Mountain Wilderness Study Area recommended for wilderness designation (5,867 ac.);

—Pacific Crest National Scenic Trail;

—Four Areas of Critical Environmental Concern, including two Research Natural Areas;

—Portions of land previously recognized as a Late-Successional Reserve before the monument designation.

Public participation has been an integral part of the planning process with the CSESA Draft Management Plan/Environmental Impact Statement and continues with this scooping process for the supplemental draft management plan (40 CFR 1501.7 and 43 CFR 1610.2), which defines:

1. Defining the scope of the analysis and nature of the decision to be made.

2. Identifying the issues and determining the significant issues for consideration and analysis within the environmental impact statement.

3. Defining the proper skills required for the interdisciplinary team.

4. Exploring possible alternatives.

5. Identifying potential environmental effects.

6. Determining potential cooperating agencies.

7. Identifying groups or individuals interested or affected by the decision.

Public participation will be solicited by mail to known interested and/or affected members of the public and key contacts. In addition, news releases will be used to give the public general notice. Comments from interested persons and organizations will be used in preparation of the supplemental draft environmental impact statement.

Local and regional groups differ over future management of the Cascade-Siskiyou National Monument. The presidential proclamation provided specific directions on minerals, commercial timber harvest, and off-road vehicle use in order to protect the objects for which the monument was designated. In addition, the proclamation directed the Secretary of the Interior to study the impacts of livestock grazing on the objects of biological interest in the monument in order to determine the compatibility of livestock grazing in protecting those objects. The formal designation also expanded the planning boundary and has the potential to have some off-site effects which were not addressed in the CSEEA Draft Management Plan/Environmental Impact Statement.

The completed management plan will provide direction for management of public lands within the Cascade-Siskiyou National Monument. Several management alternatives were identified and analyzed in the CSEEA Draft Management Plan/Environmental Impact Statement and, as a result of the monument designation, additional alternatives may be proposed. These alternatives will be developed based on internal staff discussions, public comments, and meting with government agencies.

The BLM is seeking information, comments and assistance from federal, state, and local agencies and other individuals or organization interested in or affected by management plan.

The analysis will be completed by an interdisciplinary team. Disciplines to be represented on the team include, but are not limited to, archaeology, anthropology, botany, fire management, fisheries, forestry, geology, hydrology, realty, recreation, rangeland management, wilderness, and soils. COMMENTS: Comments should be sent to Richard J. Drehobl, Ashland Field Manager/Interim Monument Manager, Medford District Bureau of Land Management, 3040 Biddle Road, Medford, Oregon 97504.

FOR FURTHER INFORMATION CONTACT: Tom Sensenig (541) 618-2319 or Bill Yocum (541) 618-2384. Fax can be sent to Tom Sensenig or Bill Yocum at (541) 618-2400 and e-mails to <110mb@or.blm.gov>. Information concerning the analysis will be available at the BLM office in Medford at the address shown above.

Pursuant to 7 CFR Part 1, subpart B, Section 1.27, all written submissions in response to this notice, the published scoping newsletter, draft, supplemental, and final environmental impact statements will be made available for public inspection including the submitter's name and address, unless the submitter specifically requests confidentiality. Anonymous comments will not be accepted. All written submissions from business entities and organizations, submitted on official letterheads, will be made available for public inspection in their entirety.

Dated: July 25, 2000.
Richard J. Drehobl,
Ashland Field Manager/Interim Monument Manager, Cascade-Siskiyou National Monument.

[FR Doc. 00-19217 Filed 7-28-00; 8:45 am]

BILLING CODE 4310-33-M